FEDERAL COMMUNICATIONS COMMISSION

47 CFR Part 73

[DA 04-366; MB Docket No. 04-34, RM-10848]

Radio Broadcasting Services; Joliet and Lemont, IL

AGENCY: Federal Communications Commission.

ACTION: Proposed rule.

SUMMARY: The Audio Division requests comments on a petition for rule making filed by HBC License Corporation proposing the reallotment of Channel 228A from Joliet to Lemont, Illinois, and the modification of Station WVIX(FM)'s construction permit accordingly Channel 228A can be reallotted to Lemont in compliance with the Commission's minimum distance separation requirements with a site restriction of 7.0 kilometers (4.4 miles) south at Station WVIX(FM)'s authorized construction permit site. The coordinates for Channel 228A at Lemont are 41-36-39 North Latitude and 88-00-33 West Longitude. In accordance with Section 1.420(i) of the Commission's Rules, we will not accept competing expressions of interest for the use of Channel 228A at Lemont, Illinois, or require petitioner to provide an equivalent class channel for the use of other interested parties.

DATES: Comments must be filed on or before April 26, 2004, reply comments on or before May 11, 2004.

ADDRESSES: Federal Communications Commission, Washington, DC 20554. In addition to filing comments with the FCC, interested parties should serve the petitioner, or its counsel or consultant, as follows: Lawrence N. Cohn, Esq., Cohn and Marks, LLP, 1920 N Street, NW., Suite 300, Washington, DC 20036 (Counsel for Petitioner).

FOR FURTHER INFORMATION CONTACT: Sharon P. McDonald, Media Bureau, (202) 418-2180.

SUPPLEMENTARY INFORMATION: This is a synopsis of the Commission's Notice of Proposed Rule Making, MB Docket No. 04-34, adopted March 3, 2004, and released March 5, 2004. The full text of this Commission decision is available for inspection and copying during normal business hours in the FCC Reference Information Center (Room CY-A257), 445 12th Street, SW., Washington, DC. The complete text of this decision may also be purchased from the Commission's copy contractor, Qualex International, Portals, II, 445 12th Street, SW, Room CY-B402, Washington, DC 20054, telephone 202-863-2893, facsimile 202-863-2898, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under Illinois, is amended by removing Channel 228A at Joliet and adding Lemont, Channel 228A.

Federal Communications Commission.
John A. Karousos,
Assistant Chief, Audio Division, Media Bureau.

[FR Doc. 04-6043 Filed 3-16-04; 8:45 am]

BILLING CODE 6712-01-P